NATIONAL FOUNDATION ON THE ARTS AND THE HUMANITIES

National Endowment for the Arts; Fellowships Advisory Panel

Pursuant to Section 10(a)(2) of the Federal Advisory Committee Act (Public Law 92-463), as amended, notice is hereby given that a meeting of the Fellowships Advisory Panel, Literature section (Poetry Fellowships category) to the National Council on the Arts will be held on from September 21-23, 2004 in Room 716 at the Nancy Hanks Center, 1100 Pennsylvania Avenue, NW., Washington, DC 20506.

A portion of this meeting, from 11:30 a.m. to 1 p.m. on September 23rd, will be open to the public for policy discussion. The remaining portions of this meeting, from 9 a.m. to 7 p.m. on September 21st, from 9 a.m. to 6:30 p.m. on September 22nd, and from 9 a.m. to 11:30 a.m. and 1 p.m. to 3 p.m. on September 23rd, will be closed.

The closed portions of this meeting are for the purpose of Panel review, discussion, evaluation, and recommendations on financial assistance under the National Foundation on the Arts and the Humanities Act of 1965, as amended, including information given in confidence to the agency. In accordance with the determination of the Chairman of April 14, 2004, these sessions will be closed to the public pursuant to subsection (c)(6) of section 552b of Title 5, United States Code.

Further information with reference to this meeting can be obtained from Ms. Kathy Plowitz-Worden, Office of Guidelines & Panel Operations, National Endowment for the Arts, Washington, DC 20506, or call (202) 682-5691.

Dated: August 9, 2004.
Kathy Plowitz-Worden,
Panel Coordinator, Panel Operations, National Endowment for the Arts.

[FR Doc. 04-18587 Filed 8-13-04; 8:45 am]

BILLING CODE 7537-01-P